DEPARTMENT OF ENERGY

Federal Energy Regulatory Commission

[Docket No. EL01-47-000]

Hydroelectric Power Component—Removing Obstacles to Increased Electric Generation and Natural Gas Supply in the Western United Sates; Notice of Public Meetings

March 26, 2001.

In light of the recent and potential future severe electric energy shortages in the western states, the Federal Energy Regulatory Commission (Commission) issued a March 14, 2001 Order Removing Obstacles To increased Electric Generation and Natural Gas Supply in The Western United States. In this Order, the Commission announces certain actions it is taking within its regulatory authorities under the Federal Power Act to help increase electric generation supply at non-Federal hydroelectric projects in the Western United States. The Commission set forth a number of proposals that would be taken into consideration until December 31, 2001.

The Commission urges all non-Federal hydroelectric licensees in the Western Systems Coordinating Council to immediately examine their projects and propose any efficiency modifications that may increase generation. The licensees are asked to detail to the Commission any environmental impacts, including impacts from changes to discretionary operations, that could occur if there are changes resulting from proposed efficiency modifications.

Where operations of hydroelectric facilities would affect flow-dependent environmental resources, the Commission's licenses include operating constraints, such as requirements for minimum stream flow, minimum reservoir fluctuation, run-of-river operating mode, ramping rates, and flood control. While these operating constraints act to reduce the energy production, peaking capacity, and other power benefits, they also serve to protect resources including resident and anadromous fish, water quality, recreation, municipal and industrial water supplies, and agricultural resources. Modification of these operational constraints has the potential to increase generation from existing hydroelectric facilities and provide additional power during peak-load periods.

Any proposal to increase generation would need to be reviewed to minimize impacts to environmental resources and the level of inconvenience that users of hydropower facilities may experience. Before making changes to specific project licenses, the Commission would need to work closely with licensees, resource agencies and other to identify opportunities for increased power generation while minimizing impacts.

In order to explore ways to expedite review of the licensees' proposals for increased generation, Commission staff will conduct two public meetings in Oregon and California. These meetings will take place at the following dates and locations:

Meeting Dates and Addresses.

(1) Monday, April 9, 2001, at Airport Holiday Inn, 8439 NE Columbia Boulevard, Portland, Oregon

(2) Tuesday, April 10, 2001, at Vagabond Executive, 2030 Arden Way, Sacramento, California

Both meetings will commence at 9 a.m. The objective of each meeting would be to develop methods for expeditiously processing proposals to increase power generation consistent with environmental protection.

For further information, please contact Lon Crow at the Commission, 202-219-2651.

David P. Boergers,
Secretary.

[FR Doc. 01-7850 Filed 3-29-01; 8:45 am]

BILLING CODE 6717-01-M